DEPARTMENT OF THE INTERIOR

National Park Service

36 CFR Part 7

[Docket No. E8-27047J]

RIN 1024-AD71

Special Regulation: Areas of the National Park System, National Capital Region; Correction

AGENCY: National Park Service, Interior.

ACTION: Correcting amendments.

SUMMARY: The National Park Service (NPS) published the final rule governing viewing of the Inaugural Parade by the Presidential Inaugural Committee in the Federal Register on November 17, 2008. That document inadvertently left out text that was intended to be retained from the previous regulation. That document also retained a paragraph that should have been removed. This document makes correcting amendments restoring the missing text to the appropriate paragraph, and removing the unnecessary paragraph.

DATES: Effective Date: February 26, 2010.

FOR FURTHER INFORMATION CONTACT: National Park Service, Regional Director of the National Capital Region, 1100 Ohio Drive, SW., Room 336, Washington, DC 20242.

SUPPLEMENTARY INFORMATION:

On November 17, 2008 (73 FR 67739), the National Park Service published a final rule to revise the special regulations for the National Capital Parks in Washington, DC. The purposes of the revision were to: (1) Clarify the regulations on issuance of permits for events in National Capital Parks, (2) respond to a decision of the U.S. District Court for the District of Columbia related to practice and procedure of permit application processing for the Presidential Inaugural Committee, and (3) provide more public access to park areas along the inaugural parade route. The paragraph revised was entitled “Permit processing”.

Through a formatting error, the portion of the paragraph that notified the public of conditions under which a permit could be denied was omitted. That same formatting error resulted in a duplicate paragraph. Paragraph (g)(5)(iv) was revised and redesignated (g)(4)(vi), but the old paragraph (g)(5)(iv) was retained in error. This correction restores the omitted language, unchanged in wording or content, to the paragraph on permit processing, removes the old duplicate paragraph, and redesignates the sections after it to restore correct numbering.

Need for Correction

As published and codified, the regulation omitted important information that the public needs in order to plan a demonstration in a time, place, and manner that will increase the chances of approval of the permit by the National Park Service. It also contained a duplicate paragraph that could cause confusion in interpretation of the regulation.

List of Subjects in 36 CFR Part 7

District of Columbia, National parks, Reporting and recordkeeping requirements.

In consideration of the reasons stated in the preamble, the National Park Service makes the following correcting amendments to 36 CFR part 7:

PART 7—SPECIAL REGULATIONS, AREAS OF THE NATIONAL PARK SYSTEM

1. The authority citation for Part 7 continues to read as follows:

Authority: 16 U.S.C. 1, 3, 9a, 462(k); Sec. 7.96 also issued under D.C. Code 10-137(2001) and D.C. Code 50-2201 (2001).

2. In section 7.96:

a. Add paragraph (g)(4)(vii);

b. Remove paragraph (g)(5)(iv); and

c. Redesignate paragraphs (g)(5)(v) through (g)(5)(xiv) as paragraphs (g)(5)(iv) through (g)(5)(xiii), respectively.

The addition reads as follows:

§ 7.96 National Capital Region.

* * * * *

(g) * * *

(4) * * *

(vii) A permit may be denied in writing by the Regional Director upon the following grounds:

(A) A fully executed prior application for the same time and place has been received, and a permit has been or will be granted authorizing activities which do not reasonably permit multiple occupancy of the particular area; in that event, an alternate site, if available for the activity, will be proposed by the Regional Director to the applicant.

(B) It reasonably appears that the proposed demonstration or special event will present a clear and present danger to the public safety, good order, or health.

(C) The proposed demonstration or special event is of such a nature or duration that it cannot reasonably be accommodated in the particular area applied for; in that event, the Regional Director shall propose an alternate site to the applicant, if available for the activity; in this connection, the Regional Director shall reasonably take into account possible damage to the park, including trees, shrubbery, other plantings, park installations and statues.

(D) The application proposes activities contrary to any of the provisions of this section or other applicable law or regulation.

* * * * *

Dated: January 20, 2010.
Thomas L. Strickland,
Assistant Secretary for Fish and Wildlife and Parks.

[FR Doc. 2010-3337 Filed 2-25-10; 8:45 am]

BILLING CODE 4312-52-M